DEPARTMENT OF THE INTERIOR

Bureau of Reclamation

[RR04073000, XXXR4081X3, RX.05940913.7000000]

Notice of Public Meeting for the Glen Canyon Dam Adaptive Management Work Group

AGENCY: Bureau of Reclamation, Interior.

ACTION: Notice.

SUMMARY: The Glen Canyon Dam Adaptive Management Work Group (AMWG) makes recommendations to the Secretary of the Interior concerning Glen Canyon Dam operations and other management actions to protect resources downstream of Glen Canyon Dam, consistent with the Grand Canyon Protection Act. The AMWG meets two to three times a year.

DATES: The meeting will be held on Wednesday, August 24, 2016, from approximately 9:30 a.m. to approximately 5:30 p.m.; and Thursday, August 25, 2016, from approximately 8:30 a.m. to approximately 3 p.m.

ADDRESSES: The meeting will be held at the Little America Hotel, 2515 E. Butler Avenue, Flagstaff, Arizona 86004.

FOR FURTHER INFORMATION CONTACT: Katrina Grantz, Bureau of Reclamation, telephone (801) 524-3635; facsimile (801) 524-3807; email at kgrantz@usbr.gov.

SUPPLEMENTARY INFORMATION: The Glen Canyon Dam Adaptive Management Program (GCDAMP) was implemented as a result of the Record of Decision on the Operation of Glen Canyon Dam Final Environmental Impact Statement to comply with consultation requirements of the Grand Canyon Protection Act (Pub. L. 102-575) of 1992. The GCDAMP includes a Federal advisory committee, the AMWG, a technical work group (TWG), a Grand Canyon Monitoring and Research Center, and independent review panels. The TWG is a subcommittee of the AMWG and provides technical advice and recommendations to the AMWG.

Agenda: The primary purpose of the meeting will be to approve the Fiscal Year 2017 Budget and Work Plan, and to approve the Water Year 2017 Hydrograph operation for Glen Canyon Dam. The AMWG will receive updates on: (1) The Long-Term Experimental and Management Plan Environmental Impact Statement, (2) current basin hydrology, (3) reports from the Glen Canyon Dam Tribal and Federal Liaisons, (4) presentation on power generation in the West, and (5) science results from Grand Canyon Monitoring and Research Center staff. The AMWG will also address other administrative and resource issues pertaining to the GCDAMP.

To view a copy of the agenda and documents related to the above meeting, please visit Reclamation's Web site at http://www.usbr.gov/uc/rm/amp/amwg/mtgs/16aug24. Time will be allowed at the meeting for any individual or organization wishing to make formal oral comments. To allow for full consideration of information by the AMWG members, written notice must be provided to Katrina Grantz, Bureau of Reclamation, Upper Colorado Regional Office, 125 South State Street, Room 8100, Salt Lake City, Utah 84138; telephone (801) 524-3635; facsimile (801) 524-3807; email at kgrantz@usbr.gov, at least five (5) days prior to the meeting. Any written comments received will be provided to the AMWG members.

Public Disclosure of Comments

Before including your address, phone number, email address, or other personal identifying information in your comment, you should be aware that your entire comment—including your personal identifying information—may be made publicly available at any time. While you can ask us in your comment to withhold your personal identifying information from public review, we cannot guarantee that we will be able to do so.

Dated: June 23, 2016.
Katrina Grantz,
Chief, Adaptive Management Group, Environmental Resources Division, Upper Colorado Regional Office.

[FR Doc. 2016-15960 Filed 7-5-16; 8:45 am]

BILLING CODE 4332-90-P